DEPARTMENT OF STATE

[Public Notice: 4547]

Update on Current Universal Postal Union Issues

AGENCY: Department of State.

ACTION: Notice of briefing.

The Department of State will host a briefing on Thursday, December 18, 2003, to provide an update on current Universal Postal Union issues, including work leading up to and preparations for the UPU Congress to be held in Bucharest, Romania from September 15 to October 5, 2004.

The briefing will be held from 1 p.m. until approximately 4 p.m., on December 18, in Room 1207 of the Department of State, 2201 C Street, NW., Washington, DC. The briefing will be open to the public up to the capacity of the meeting room (40 persons).

The briefing will provide information on the results of the October 2003 session of the UPU Council of Administration and concurrent meetings of the UPU Postal Operations Council. Special attention will be paid to several major issues discussed at these meetings, including terminal dues, extra-territorial offices of exchange, and the status of proposals to create a UPU Consultative Committee whose membership is primarily from the private sector. Information will also be provided about publication of a study of the remail provisions of Article 43 of the UPU Convention and the status of United States preparations for the 2004 UPU Congress in Bucharest. The briefing will be chaired by Deputy Assistant Secretary Terry Miller of the Department of State. Entry to the Department of State building is controlled and will be facilitated by advance arrangements. In order to arrange admittance, persons desiring to attend the briefing should, no later than noon on December 17, 2001, notify the Office of Technical and Specialized Agencies, Bureau of International Organization Affairs, Department of State, preferably by fax, providing the name of the meeting and the individual's name, Social Security number, date of birth, professional affiliation, address and telephone number. The fax number to use is (202) 647-8902. Voice telephone is (202) 647-1044. This request applies to both government and non-government individuals.

All attendees must use the main entrance of the Department of State at 23rd Street between C and D Streets, NW. Please note that under current security restrictions, C Street is closed to vehicular traffic between 21st and 23rd Streets. Taxis may leave passengers at 21st and C Streets, 23rd and C Streets, or 22nd Street and Constitution Avenue. One of the following means of identification will be required for admittance: any U.S. driver's license with photo, a passport, or any U.S. Government agency identification card.

Questions concerning the briefing may be directed to Mr. Donald Booth at (202) 647-2752 or via email at boothde@state.gov.

Dated: November 21, 2003.
Donald Booth,
Director, Office of Technical and Specialized Agencies, Department of State.

[FR Doc. 03-30124 Filed 12-2-03; 8:45 am]

BILLING CODE 4710-19-P